DEPARTMENT OF LABOR

Employment and Training Administration

[TA-W-70,367]

Unit Structures LLC, Magnolia, AR; Notice of Termination of Investigation

Pursuant to Section 223 of the Trade Act of 1974, as amended, an investigation was initiated in response to a petition filed on May 21, 2009 by the State of Arkansas Rapid Response Coordinator on behalf of workers of Unit Structures LLC, Magnolia, Arkansas.

The petitioner has requested that the petition be withdrawn. Accordingly, the investigation has been terminated.

Signed in Washington, DC, this 28th day of January 2010.
Richard Church,
Certifying Officer, Division of Trade Adjustment Assistance.

[FR Doc. 2010-5343 Filed 3-11-10; 8:45 am]

BILLING CODE 4510-FN-P